DEPARTMENT OF TRANSPORTATION

Federal Aviation Administration

14 CFR Part 39

[Docket No. FAA-2011-0383; Directorate Identifier 2010-NM-093-AD; Amendment 39-16675; AD 2011-09-13]

RIN 2120-AA64

Airworthiness Directives; Airbus Model A340-200 and -300 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Further to accomplishment of A340 ALI tasks 545104, which require a rototest inspection as per Non Destructive Testing Manual (NTM) 54-51-04 of engine pylon pyramid attachment areas at aft end of lower arms between Rib 1 and Rib 2 (2 fastener locations/pylon), four findings have been reported and repaired.

* * * * *

The unsafe condition is cracking, which might impact the structural integrity of the airplane. This AD requires actions that are intended to address the unsafe condition described in the MCAI.

DATES: This AD becomes effective May 17, 2011.

The Director of the Federal Register approved the incorporation by reference of a certain publication listed in the AD as of May 17, 2011.

We must receive comments on this AD by June 16, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone: (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone: 425-227-1138; fax: 425-227-1149.

SUPPLEMENTARY INFORMATION:

Discussion

The European Aviation Safety Agency (EASA), which is the Technical Agent for the Member States of the European Community, has issued EASA Airworthiness Directive 2008-0140, dated July 28, 2008 (referred to after this as “the MCAI”), to correct an unsafe condition for the specified products. The MCAI states:

Further to accomplishment of A340 ALI tasks 545104, which require a rototest inspection as per Non Destructive Testing Manual (NTM) 54-51-04 of engine pylon pyramid attachment areas at aft end of lower arms between Rib 1 and Rib 2 (2 fastener locations/pylon), four findings have been reported and repaired.

Further investigations made on performances of High Frequency Eddy Current (HFEC) inspection techniques in steel led to the conclusion that existing NTM procedure 54-51-04 by rototest is not reliable because this method is not adapted to the ferromagnetic materials and therefore findings reported up to now using this procedure can be considered as uncertain.

Therefore, a new inspection procedure using Ultra Sonic (US) testing without fastener removal has been developed.

In order to comply with certification requirements, this Airworthiness Directive (AD) requires performing the new [repetitive] US inspection [for cracking] on all A340-200/-300 pre-modification 49203 (reinforcements of pylon primary structure for enhanced A340).

The unsafe condition is cracking, which might impact the structural integrity of the airplane. The required actions include repairing any cracks found. You may obtain further information by examining the MCAI in the AD docket.

Relevant Service Information

Airbus has issued Mandatory Service Bulletin A340-54-4010, including Appendices 1, 2, and 3, dated July 21, 2008. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0383; Directorate Identifier 2010-NM-093-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-09-13 Airbus: Amendment 39-16675. Docket No. FAA-2011-0383; Directorate Identifier 2010-NM-093-AD.

Effective Date

(a) This airworthiness directive (AD) becomes effective May 17, 2011.

Affected ADs

(b) None.

Applicability

(c) This AD applies to Airbus Model A340-211, -212, -213, -311, -312, and -313 airplanes; certificated in any category; all serial numbers except those on which Airbus Modification 49203 has been incorporated in production.

Subject

(d) Air Transport Association (ATA) of America Code 54: Nacelles/Pylons.

Reason

(e) The mandatory continued airworthiness information (MCAI) states:

Further to accomplishment of A340 ALI tasks 545104, which require a rototest inspection as per Non Destructive Testing Manual (NTM) 54-51-04 of engine pylon pyramid attachment areas at aft end of lower arms between Rib 1 and Rib 2 (2 fastener locations/pylon), four findings have been reported and repaired.

* * * * *

The unsafe condition is cracking, which might impact the structural integrity of the airplane.

Compliance

(f) You are responsible for having the actions required by this AD performed within the compliance times specified, unless the actions have already been done.

Ultrasonic Inspection

(g) At the later of the compliance times specified in paragraphs (g)(1) and (g)(2) of this AD, except as provided by paragraph (h) of this AD: Perform an ultrasonic inspection of pylon pyramid attachment areas at the aft end of the lower arms between Rib 1 and Rib 2 without fastener removal (2 fastener locations per pylon), in accordance with the Accomplishment Instructions of Airbus Mandatory Service Bulletin A340-54-4010, dated July 21, 2008.

(1) Before the accumulation of the applicable total flight cycles or total flight hours, whichever occurs first, specified in table 1 of this AD.

(2) Within 90 days after the effective date of this AD.

Table 1—Initial Inspection Compliance Times
Weight variant | Total flight cycles | Total flight hours
000 through 004 | 13,000 | 60,000
020, 021, 023 through 026, 028 through 030, Pre 49203 | 11,470 | 77,400
027 | 11,000 | 30,000

(h) For airplanes belonging to weight variant 000 through 004 inspected before the effective date of this AD in accordance with Airworthiness Limitations Items (ALI) Task 545104-01-01, as described in Airbus A340 Airworthiness Limitations Items Document Ref: AI/SE-M4/95A.0051/97, Issue 10, dated February 1, 2007: Perform the inspection required in paragraph (g) of this AD at the compliance times specified in paragraphs (h)(1) and (h)(2) of this AD, whichever occurs later.

(1) Within 90 days after the effective date of this AD.

(2) Within 2,680 flight cycles or 19,200 flight hours, whichever occurs first, after the most recent rototest inspection done in accordance with ALI task 545104-01-01, but not to exceed the accumulation of 15,280 total flight cycles or 76,400 total flight hours, whichever occurs first.

(i) If no cracking is detected during any inspection required by paragraph (g) of this AD: Repeat the inspection required in paragraph (g) of this AD thereafter at intervals not to exceed the earlier of the applicable flight cycles or flight hours interval specified in table 2 of this AD.

Table 2—Repetitive Inspection Interval
Weight variant | Flight cycles | Flight hours
000 through 004 | 1,900 | 9,500
020, 021, 023 through 026, 028 through 030, Pre 49203 | 1,700 | 8,500
027 | 1,700 | 8,500

(j) If any crack is detected during any inspection required by this AD: Before further flight, repair the cracking using a method approved by either the Manager, International Branch, ANM 116, Transport Airplane Directorate, FAA; or the European Aviation Safety Agency (EASA) (or its delegated agent).

FAA AD Differences

Note 1: This AD differs from the MCAI and/or service information as follows: No differences.

Other FAA AD Provisions

(k) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone: 425-227-1138; fax: 425-227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Special Flight Permits: Special flight permits, as described in Section 21.197 and Section 21.199 of the Federal Aviation Regulations (14 CFR 21.197 and 21.199), are not allowed if any crack is detected during any inspection required by this AD.

Related Information

(l) Refer to MCAI EASA Airworthiness Directive 2008-0140, dated July 28, 2008; and Airbus Mandatory Service Bulletin A340-54-4010, dated July 21, 2008; for related information.

Material Incorporated by Reference

(m) You must use Airbus Mandatory Service Bulletin A340-54-4010, including Appendices 1, 2, and 3, dated July 21, 2008, to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone: +33 5 61 93 36 96; fax: +33 5 61 93 45 80; e-mail: airworthiness.A330-A340@airbus.com; Internet: http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on April 15, 2011.
Ali Bahrami,
Manager, Transport Airplane Directorate, Aircraft Certification Service.

[FR Doc. 2011-9921 Filed 4-29-11; 8:45 am]

BILLING CODE 4910-13-P